DEPARTMENT OF HOMELAND SECURITY

Coast Guard

33 CFR Part 151

[Docket No. USCG-2018-0245]

RIN 1625-AC45

Ballast Water Management—Annual Reporting Requirement

Correction

In rule document 2018-20374, appearing on pages 47284 through 47293, in the issue of Wednesday, September 19, 2018, make the following correction:

On page 47291, in Table 5, under the table heading, in the second column, the column heading titled “Current COI respondents (B)” is corrected to read “COI burden hours (B)”.

[FR Doc. C1-2018-20374 Filed 9-25-18; 8:45 am]

BILLING CODE 1301-00-D